DEPARTMENT OF THE INTERIOR

Fish and Wildlife Service

[FWS-R1-ES-2022-0084; FXES11140100000-223-FF01E00000]

Proposed Habitat Conservation Plan for the Mazama Pocket Gopher; Receipt of Incidental Take Permit Application; Infrastructure Improvements in Thurston County, Washington

AGENCY: Fish and Wildlife Service, Interior.

ACTION: Notice of availability; request for comments.

SUMMARY: We, the U.S. Fish and Wildlife Service (Service), received an application from Thurston County Public Works (applicant) for an incidental take permit (ITP) pursuant to the Endangered Species Act. The ITP would authorize take of the Yelm subspecies of the Mazama pocket gopher (Thomomys mazama yelmensis), incidental to otherwise lawful safety and infrastructure improvements at Steilacoom Road and at the Marvin and Mullen Road intersection in Thurston County, Washington. The application includes a habitat conservation plan (HCP) with measures to minimize and mitigate the impacts of the taking on the covered species. We have also prepared a draft environmental action statement for our preliminary determination that the HCP and our permit decision may be eligible for categorical exclusion under the National Environmental Policy Act. We provide this notice to open a public comment period and invite comments from all interested parties regarding the documents.

DATES: We must receive your written comments on or before August 19, 2022. Any comments received after the closing date may not be considered in the final decision on these actions.

ADDRESSES:

Obtaining documents: You may obtain copies of the documents online at https://www.regulations.gov in Docket No. FWS-R1-ES-2022-0084, or at https://www.fws.gov/wafwo/.

Submitting comments: To submit written comments, please use one of the following methods:

• Internet: https://www.regulations.gov. Follow the instructions for submitting comments on Docket No. FWS-R1-ES-2022-0084.

• Email: wfwocomments@fws.gov. Include “Steilacoom Road and Marvin-McMullin Intersection Improvements HCP” in the subject line of the message.

• U.S. Mail: Public Comments Processing, Attn: Docket No. FWS-R1-ES-2022-0084; U.S. Fish and Wildlife Service Headquarters, MS: PRB/3W; 5275 Leesburg Pike, Falls Church, VA 22041-3803.

FOR FURTHER INFORMATION CONTACT: Madison McGroarty, by email at madison_mcgroarty@fws.gov or by telephone at 360-338-2473. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), received an application, including a habitat conservation plan (HCP), from Thurston County Public Works (applicant) for an incidental take permit (ITP) pursuant to section 10(a)(1)(B) of the Endangered Species Act of 1973, as amended (ESA; 16 U.S.C. 1531 et seq.). The permit, if issued, would authorize incidental take of the Yelm subspecies of the Mazama pocket gopher (Thomomys mazama yelmensis) (pocket gopher) incidental to construction associated with upgrades and improvements to Steilacoom Road and at the Marvin and Mullen Road intersection in Thurston County, Washington, for a period of 10 years. The HCP describes actions the applicant would take to minimize and mitigate the impacts of the taking on the covered species.

Background

Section 9 of the ESA prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3).

Section 10(a)(1)(B) of the ESA contains provisions that authorize the Service to issue permits to non-Federal entities for the take of endangered and threatened species caused by otherwise lawful activities, provided the following criteria are met: (1) the taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found in 50 CFR 17.22 and 17.32, respectively.

Proposed Action

The applicant proposes to construct safety and infrastructure improvements at Steilacoom Road and the intersection of Marvin and Mullen Roads in Thurston County, Washington. The permit area consists of 3.26 acres for the Steilacoom Road project and 2.05 acres for the Marvin and Mullen Intersection project. Areas within the project rights-of-way would be excavated, graded and paved to construct new sidewalks and lanes. Other activities covered under the HCP would include utility relocation, and the installation of permanent stormwater facilities.

Approximately 2.92 acres within the 5.31-acre permit area consist of suitable and occupied habitat for the pocket gopher; however, the total number of individuals likely present in the permit area is unknown. The impacts to suitable and occupied habitat will therefore serve as a surrogate for the amount and extent of take anticipated over the term of the requested permit.

To offset the impact of the taking, the applicant proposes to fund permanent management and maintenance of 4 acres of occupied habitat for the gopher. Thurston County proposes to secure mitigation at an existing conservation site provided it meets criteria outlined in the HCP and the sites can be secured prior to project implementation.

The Service's proposed action is to issue the requested 10-year ITP based on the applicant's commitment to implement the HCP provided that all requirements for ITP issuance under applicable law are met including, without limitation, ESA section 10(a)(2)(B) permit issuance criteria (36 U.S.C. 1539(a)(2)(B).

Public Comments

You may submit your comments and materials by one of the methods listed in ADDRESSES. We specifically request information, views, and suggestions from interested parties regarding our proposed Federal action, including, without limitation, adequacy of the HCP, whether the HCP meets requirements for permits at 50 CFR parts 13 and 17, and adequacy of the EAS pursuant to the requirements of NEPA. We will post all comments on https://www.regulations.gov. This generally means that we will post online any personal information that you provide (see Public Availability of Comments under SUPPLEMENTARY INFORMATION). We request that you submit comments by only the methods described in ADDRESSES.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety.

Authority

We provide this notice in accordance with the requirements of section 10(c) of the ESA (16 U.S.C. 1531 et seq.) and its implementing regulations (50 CFR 17.32), and NEPA (42 U.S.C. 4321 et seq.) and its implementing regulations (40 CFR 1506.6 and 43 CFR 46.205).

Nanette Seto,
Acting Regional Director, U.S. Fish and Wildlife Service.

[FR Doc. 2022-15423 Filed 7-19-22; 8:45 am]

BILLING CODE 4333-15-P